DEPARTMENT OF ENERGY

Federal Energy Regulatory Commission

[Docket No. RP01-589-000]

Mississippi River Transmission Corp.; Notice of Tariff Filing and Annual Charge Adjustment

September 13, 2001.

Take notice that on September 6, 2001, Mississippi River Transmission Corporation (MRT) tendered for filing as part of its FERC Gas Tariff, Third Revised Volume No. 1, the following revised tariff sheets to be effective on October 1, 2001:

Forty-Second Revised Sheet No. 5

Forty-Second Revised Sheet No. 6

Thirty-Ninth Revised Sheet No. 7

MRT states that the purpose of this filing is to establish the revised Annual Charge Adjustment (ACA) rate effective October 1, 2001 for MRT's transportation rates. The ACA rate is designed to recover the charge assessed by the Commission pursuant to Part 382 of the Commission's Regulations.

Any person desiring to be heard or to protest said filing should file a motion to intervene or a protest with the Federal Energy Regulatory Commission, 888 First Street, NE., Washington, DC 20426, in accordance with Sections 385.214 or 385.211 of the Commission's Rules and Regulations. All such motions or protests must be filed on or before September 20, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-23393 Filed 9-19-01; 8:45 am]

BILLING CODE 6717-01-P